DEPARTMENT OF TRANSPORTATION

Federal Railroad Administration

[Docket Number FRA-2006-25764]

Union Pacific Railroad Company; Notice of Withdrawal of Petition for Waiver of Compliance and Cancellation of Public Hearing

On September 26, 2006, the Federal Railroad Administration (FRA) published a notice in the Federal Register (71 FR 56217) announcing the Union Pacific Railroad Company's (UP) request for a waiver of compliance from certain provisions of Title 49 Code of Federal Regulations (CFR) Part 232, Brake System Safety Standards for Freight and Other Non-passenger Trains and Equipment, and 49 CFR Part 215, Railroad Freight Car Safety Standards, for trains received in interchange from the Ferrocarriles Nationales de Mexico Railroad at the Calexico, California, border crossing. Subsequently, on November 17, 2006, FRA published a notice in the Federal Register (71 FR 67011) announcing that UP had amended its original petition. Specifically, UP sought approval to postpone performing Class I brake tests and freight car safety standards inspections until trains arrive at El Centro, California (a distance of approximately 10.1 miles).

FRA received comments from interested parties requesting a public hearing on the issue and FRA subsequently scheduled a public hearing for March 29, 2007 in the Federal Register on March 5, 2007 (72 FR 9831). At the same time, FRA extended the public comment period in the proceeding to April 13, 2007.

By letters dated March 13, 2007, March 15, 2007, and March 19, 2007, the interested parties withdrew their requests for a public hearing.

Accordingly, the public hearing scheduled for March 29, 2007, in El Centro, California, is hereby canceled. The comment period will remain open until April 13, 2007, as previously announced. All communications concerning this waiver petition should identify the appropriate docket number (e.g. Waiver Petition Docket Number FRA-2006-25764) and may be submitted by one of the following methods:

• Web site: http://dms.dot.gov. Follow the instructions for submitting comments on the DOT electronic site;

• Fax: 202-493-2251;

• Mail: Docket Management Facility, U.S. Department of Transportation, 400 Seventh Street, SW., Nassif Building, Room PL-401, Washington, DC 20590-0001; or

• Hand Delivery: Room PL-401 on the Plaza Level of the Nassif Building, 400 Seventh Street, SW., Washington, DC, between 9 a.m. and 5 p.m., Monday through Friday, except Federal holidays.

All written communications concerning these proceedings are available for examination during regular business hours (9 a.m.-5 p.m.) at the above facility. Documents in the public docket are also available for review and copying on the Internet at the docket facility Web site at http://dms.dot.gov.

Issued in Washington, DC on March 22, 2007.
Grady C. Cothen, Jr.,
Deputy Associate Administrator for Safety Standards and Program Development.

[FR Doc. E7-5616 Filed 3-27-07; 8:45 am]

BILLING CODE 4910-06-P